OFFICE OF THE UNITED STATES TRADE REPRESENTATIVE

Trade Policy Staff Committee; Public Comments for Mandated Multilateral Trade Negotiations on Agriculture and Services in the World Trade Organization (WTO) and Priorities for Future Market Access Negotiations on Non-Agricultural Goods

ACTION: Notice and request for comments.

SUMMARY: The Trade Policy Staff Comments (TPSC) is requesting written public comments on general U.S. negotiating objectives as well as country and item-specific export priorities for agriculture and services. The TPSC also seeks public comment on country-specific export priorities for tariffs and non-tariff measures for non-agricultural products. Comments received will be considered by the Executive Branch in formulating U.S. positions and objectives for U.S. participation in the mandated WTO negotiations on agriculture and services and further negotiations on market for non-agricultural products should consensus emerge among WTO Members to launch negotiations in this area.

DATES: Public comments are due by noon, May 12, 2000.

ADDRESSES: Office of the U.S. Trade Representative, 600 17th Street, N.W., Washington, D.C.

FOR FURTHER INFORMATION CONTACT: Steve Neff, Office of Agricultural Affairs (202) 395-6127 for agriculture; Peter Collins, Office of Services, Investment and Intellectual Property (202) 395-7271 for services; Barbara Chattin, Office of WTO and Multilateral Affairs at (202) 395-5097 for non-agricultural market access; and Gloria Blue, Executive Secretary, Trade Policy Staff Committee, Office of the United States Trade Representatives, (202) 395-3475 for procedural questions concerning public comments.

Information about the WTO can be obtained via the WTO website (www.wto.org). U.S. submissions on agriculture, services and non-agricultural market access made to the WTO General Council as part of the preparatory process for the WTO Ministerial in December 1999 can be found on the USTR website (www.ustr.gov) under “what's new.”

SUPPLEMENTARY INFORMATION: The TPSC invites written comments from the public on issues to be addressed in the course of the mandated negotiations on agriculture and services that are underway in the WTO. The Uruguay Round Agreement on Agriculture stipulates in Article 20 that a continuation of the reform process begin “one year before the end of the implementation period,” i.e., beginning of 2000. Similarly, the General Agreement on Trade in Services (GATS) provides, in Article XIX, “Members shall enter into successive rounds of negotiations, beginning not later than five years from the date of entry into force of the WTO Agreement * * *.” Although not part of the WTO mandated negotiations, the Administration notes that it has received expressions of interest in further negotiations on non-agricultural market access, including tariffs and non-tariff measures for specific products and countries.

For agriculture, topics for negotiating objectives include reforms in each of the areas of market access, domestic support, export competition, and other rules and disciplines affecting trade in agricultural products, including biotechnology. Comments are welcome with as much specificity as the respondent can provide an general or commodity-specific negotiating objectives; country and product specific export interests or barriers; and experience with particular measures, such as tariff-rate quota administration, that might be addressed in the context of the new negotiations.

For services, topics for negotiating objectives include removal or reduction of barriers to U.S. services exports under existing GATS disciplines; establishment of new GATS disciplines to ensure effective market access, e.g., proposed disciplines on domestic regulations on services, possibly addressing transparency and necessity; and clarification of sectoral definitions in the Agreement.

Services sectors under consideration in the negotiations include: (1) Business services, including professional and related services (including legal, accounting, auditing and bookkeeping, taxation, medical, dental, veterinary, engineering, architectural, and urban planning services), computer and related services, research and development services, real estate services, rental and leasing services, and advertising and management services; (2) communication services (including telecommunications services, audiovisual services, postal services, and express delivery or “courier” services); (3) construction and related engineering services; (4) distribution services (including wholesale, retail, and franchising services); (5) educational and training services; (6) environmental services; (7) energy services; (8) financial services, including insurance and insurance-related services, banking and securities services; (9) health-related and social services; (10) tourism and travel-related services; (11) recreational, cultural and sporting services; and (12) transport services.

Comments on broader negotiations on non-agricultural market access are welcome with as much specificity as the respondent can provide on general negotiating objectives and/or targets; country and product specific export interests or barriers; and experience with particular measures that might be improved in the context of the new negotiations.

The U.S. International Trade Commission has provided to the TPSC the public comments received on agricultural and non-agricultural products as part of its investigation No. 332-405, Probable Economic Effects on Reduction or Elimination of U.S. Tariffs (November 1999 (Confidential report)). Hence, these comments need not be resubmitted.

Comments should state clearly the objective(s) and should contain detailed information supporting the objective(s). Submissions should clearly indicate the general topic (i.e., agriculture, services or non-agricultural products). For agriculture and non-agricultural products, identification of country-specific export priorities on goods should, to the maximum extent possible, identify the item by Harmonized System nomenclature at the 6-digit level at a minimum and the country of interest. For services, the submissions should include, wherever appropriate, sector-specific export priorities by country.

Persons submitting written comments should provide twenty (20) copies no later than noon May 12, 2000, to Gloria Blue, Executive Secretary, Trade Policy Staff Committee, Office of the United States Trade Representative, Room 122, 600 17th Street Northwest, Washington, DC 20508. In addition, a helpful supplement to the written statement would be to provide a disk of the submission containing as much of the technical details as possible, either in a spreadsheet format or in a word processing table format, with each tariff line/services sector in a separate cell. The disk should have a label identifying the software used and the submitter.

Written comments submitted in connection with this request, except for information granted “business confidential” status pursuant to 15 CFR 2003.6, will be available for public inspection in the USTR Reading Room, Room 101, Office of the United States Trade Representative, 600 17th Street, NW., Washington, DC. An appointment to review the file may be made by calling Brenda Webb at 202-395-6186. The Reading Room is open to the public from 10:00 a.m. to 12 noon, and from 1 p.m. to 4 p.m. Monday through Friday.

Business confidential information, including any information submitted on disks, will be subject to the requirements of 15 CFR 2003.6. Any business confidential material must be clearly marked as such on the cover letter or page and each succeeding page, and must be accompanied by a non-confidential summary thereof. If the submission contains business confidential information, twenty copies of a public version that does not contain confidential information, must be submitted. A justification as to why the information contained in the submission should be treated confidentially must be included in the submission. In addition, any submissions containing business confidential information must be clearly marked “Confidential” at the top and bottom of the cover page (or letter) and each succeeding page of the submission. The version that does not contain confidential information should also be clearly marked, at the top and bottom of each page, “public version” or “non-confidential.”

Carmen Suro-Bredie,
Chair, Trade Policy Staff Committee.

[FR Doc. 00-7516 Filed 3-27-00; 8:45 am]

BILLING CODE 3190-01-M